DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the U.S. Customs and Border Protection regulations (19 CFR 111.51), the following Customs broker licenses and all associated permits are cancelled without prejudice.

Name | License No. | Issuing port
C.P. Express, Inc | 21848 | New York.
GEMM Customs Brokers, Inc | 09879 | New York.
Richard Penack | 09782 | New York.
G.W. Harder Company, Inc | 24177 | New York.
ATE Logistics, Inc | 17486 | Seattle.
Mares-Shreve & Associates, Inc | 09996 | Seattle.
Universal Freight Forwarders, Ltd | 10429 | Seattle.
Universal Freight Forwarders, Ltd | 22435 | Seattle.
Alpha Sun International, Inc | 16403 | Atlanta.
Interstar Solutions, LLC | 23366 | Houston.

Dated: November 30, 2010.
Daniel Baldwin,
Assistant Commissioner, Office of International Trade.

[FR Doc. 2010-31042 Filed 12-9-10; 8:45 am]

BILLING CODE 9111-14-P